Proclamation 8893 of October 24, 2012

United Nations Day, 2012

By the President of the United States of America

A Proclamation

Sixty-seven years ago, as the world began to emerge from the shadows of war, the 51 founding member states of the United Nations came together to take up the new test of forging a lasting peace. In a decade scarred by genocide, the United Nations chose the hope of unity over the ease of division, boldly promising to future generations that the dignity and equality of human beings would be our common cause. Today, we commemorate United Nations Day by celebrating the founding ideals laid down in its Charter and reaffirming the commitments to peace building, human rights, and social progress that will guide us in the years to come.

Throughout its history, the United Nations Charter has reflected the belief that the world is more secure when the global community acts collectively. Dedicated to assuring “the equal rights of men and women and of nations large and small,” the institution has played an essential role in addressing the conditions that make the world more just and conflict less likely—caring for children, tending to the sick, and pursuing peace in places wracked by conflict. In today's world, this mission remains as vital as it has ever been. Across the globe, people are making their voices heard. They are insisting on their innate dignity and the right to determine their future. The United States will always stand up for these aspirations at home and abroad, and we will join our global partners in working to realize them.

Through the better part of a century, we have seen what is possible when a strong and united international community takes action to advance the interests and values we share. The founding values of the United Nations remind us that countries can resolve their differences peacefully, and that all people deserve the chance to seek their own destiny, free from fear and empowered with their most fundamental rights. As we recognize this 67th anniversary of the United Nations, let us recommit to carrying that vision forward in the years ahead.

NOW, THEREFORE, I, BARACK OBAMA, President of the United States of America, by virtue of the authority vested in me by the Constitution and the laws of the United States, do hereby proclaim October 24, 2012, as United Nations Day. I urge the Governors of the 50 States, and the officials of all other areas under the flag of the United States, to observe United Nations Day with appropriate ceremonies and activities.

IN WITNESS WHEREOF, I have hereunto set my hand this twenty-fourth day of October, in the year of our Lord two thousand twelve, and of the Independence of the United States of America the two hundred and thirty-seventh.

[FR Doc. 2012-26650

Filed 10-26-12; 8:45 am]

Billing code 3295-F3